DEPARTMENT OF THE INTERIOR

National Park Service

Notice of Inventory Completion: American Museum of Natural History, New York, NY

AGENCY: National Park Service, Interior.

ACTION: Notice.

Notice is here given in accordance with the Native American Graves Protection and Repatriation Act (NAGPRA), 25 U.S.C. 3003, of the completion of an inventory of human remains in the possession of the American Museum of Natural History, New York, NY. The human remains were collected from King County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the American Museum of Natural History professional staff in consultation with representatives of the Puyallup Tribe of the Puyallup Reservation, Washington.

In 1899, human remains representing a minimum of one individual were collected from the surface of Burton, King County, WA, by Harlan I. Smith. Mr. Smith was a member of the Jesup North Pacific Expedition that was sponsored by the American Museum of Natural History. No known individual was identified. No associated funerary objects are present.

The individual has been identified as Native American based on the presence of cranial reshaping. A bioarcheologist who examined the human remains estimated them to be of a recent age. Geographic location is consistent with the traditional and post-contact territory of the S'Homamish people, who were incorporated into the Puyallup Tribe of the Puyallup Reservation, Washington in 1854.

Officials of the American Museum of Natural History have determined that, pursuant to 25 U.S.C. 3001 (9-10), the human remains described above represent the physical remains of one individual of Native American ancestry. Officials of the American Museum of Natural History also have determined that, pursuant to 25 U.S.C. 3001 (2), there is a relationship of shared group identity that can be reasonably traced between the Native American human remains and the Puyallup Tribe of the Puyallup Reservation, Washington.

Representatives of any other Indian tribe that believes itself to be culturally affiliated with the human remains should contact Nell Murphy, Director of Cultural Resources, American Museum of Natural History, Central Park West at 79th Street, New York, NY 10024-5192, telephone (212) 769-5837, before July 23, 2007. Repatriation of the human remains to the Puyallup Tribe of the Puyallup Reservation, Washington may proceed after that date if no additional claimants come forward.

The American Museum of Natural History is responsible for notifying the Puyallup Tribe of the Puyallup Reservation, Washington that this notice has been published.

Dated: May 21, 2007.
Sherry Hutt,
Manager, National NAGPRA Program.

[FR Doc. E7-11986 Filed 6-20-07; 8:45 am]

BILLING CODE 4312-50-S